SOCIAL SECURITY ADMINISTRATION

20 CFR Part 404

[Docket No. SSA-2006-0140]

RIN 0960-AF35

Revised Medical Criteria for Evaluating Neurological Disorders

AGENCY: Social Security Administration.

ACTION: Proposed rule; notice of teleconference.

SUMMARY: We propose to revise the criteria in the Listing of Impairments (listings) that we use to evaluate disability claims involving neurological disorders in adults and children under titles II and XVI of the Social Security Act (Act). The proposed revisions reflect our program experience; advances in medical knowledge, treatment, and methods of evaluating neurological disorders; comments we received from medical experts and the public at an outreach policy conference; and responses to an advance notice of proposed rulemaking (ANPRM). On Monday, May 12, 2014 at 1:00 p.m., EDT, we will conduct an informational teleconference on certain proposed changes to the medical criteria for evaluating neurological disorders in the Listing of Impairments (listings). The teleconference is open to the public and will be strictly informational.

Date and Time: The teleconference will take place on Monday, May 12, 2014 at 1:00 p.m., EDT.

Teleconference: To join us by teleconference, dial phone number 1-800-930-7709 and use passcode number 112683.

FOR FURTHER INFORMATION CONTACT: For additional information about this teleconference, please contact Cheryl Williams, Office of Medical Policy, Office of Disability Policy, Social Security Administration, 6401 Security Boulevard, Baltimore, Maryland 21235-6401, (410) 965-1020.

For information on eligibility or filing for benefits, call our national toll-free number, 1-800-772-1213, or TTY 1-800-325-0778, or visit our Internet site, Social Security Online, at http://www.socialsecurity.gov.

SUPPLEMENTARY INFORMATION: On Monday, May 12, 2014 at 1:00 p.m., EDT, we will conduct an informational teleconference on certain proposed changes to the medical criteria for evaluating neurological disorders in the Listing of Impairments (listings), as described in our recent Notice of Proposed Rulemaking we published in the Federal Register on February 25, 2014 (79 FR 10636). We use the criteria in the listings to evaluate the effects of neurological disorders in adults and children under titles II and XVI of the Social Security Act.

The teleconference is open to the public and we invite interested individuals to join us.

• To join the teleconference, dial phone number 1-800-930-7709 and use passcode number 112683.

The teleconference will be strictly informational. The public comment period for the notice of proposed rulemaking will be extended through May 28, 2014. The presenter will be Shirleeta Stanton, Deputy Associate Commissioner for Disability Policy.

Agenda

1. General background on the disability program.

2. How we revise the listings.

3. Information we considered when we drafted the proposed functional criteria in the listings.

4. Overview of the proposed functional criteria in the listings to evaluate a person's neurological condition.

We will post a summary of the teleconference in the rulemaking record at http://www.regulations.gov. Use the Search function of the Web page to find docket number SSA-2006-0140 and look under Supporting & Related Material.

Dated: April 22, 2014.
Shirleeta Stanton,
Deputy Associate Commissioner, Office of Disability Policy.

[FR Doc. 2014-09480 Filed 4-25-14; 8:45 am]

BILLING CODE 4191-02-P